DEPARTMENT OF COMMERCE

International Trade Administration

[A-533-869]

Certain New Pneumatic Off-the-Road Tires From India: Antidumping Duty Order

AGENCY: Enforcement and Compliance, International Trade Administration, Department of Commerce.

SUMMARY: Based on an affirmative amended final determination by the Department of Commerce (the Department) and an affirmative final determination by the International Trade Commission (the ITC), the Department is issuing an antidumping duty order on certain new pneumatic off-the-road tires (off road tires) from India.

DATES: Effective March 6, 2017.

FOR FURTHER INFORMATION CONTACT: Lilit Astvatsatrian or Trisha Tran, AD/CVD Operations, Office IV, Enforcement and Compliance, International Trade Administration, U.S. Department of Commerce, 1401 Constitution Avenue NW., Washington, DC 20230; telephone: (202) 482-6412 or (202) 482-4852, respectively.

SUPPLEMENTARY INFORMATION:

Background

In accordance with sections 735(d) and 777(i)(1) of the Tariff Act of 1930, as amended (the Act), and 19 CFR 351.210(c), on January 17, 2017, the Department published its final negative determination of sales at less-than-fair-value (LTFV) with respect to off-the-road tires from India.¹ Pursuant to section 735(e) of the Act and 19 CFR 351.224(e), which provide for the correction of ministerial errors, on February 2, 2017, the Department published its affirmative amended final determination of sales at LTFV.² On February 23, 2017, the ITC notified the Department of its final determination that an industry in the United States is materially injured within the meaning of section 735(b)(1)(A)(i) of the Act, by reason of the LTFV imports of off road tires from India.³

¹ See Certain New Pneumatic Off-the-Road Tires from India: Final Negative Determination of Sales at Less Than Fair Value and Final Determination of Critical Circumstances, 82 FR 4848 (January 17, 2017).

² See Certain New Pneumatic Off-the-Road Tires from India: Affirmative Amended Final Determination of Sales at Less Than Fair Value and Final Negative Determination of Critical Circumstances, 82 FR 9056 (February 2, 2017) (Amended Final Determination).

³ See Letter to Ronald Lorentzen, Acting Assistant Secretary of Commerce for Enforcement and Compliance, from Rhonda K. Schmidtlein, Chairman of the U.S. International Trade Commission, regarding off the road tires from the India and Sri Lanka (February 23, 2017). See also Certain New Pneumatic Off-the-Road Tires from India and Sri Lanka, Investigation Nos. 701‐TA‐552‐553 and 731‐TA‐1308 (Final), USITC Publication 4669 (February 2017).

Scope of the Order

The products covered by this order are off road tires, which are tires with an off road tire size designation. For a complete description of the scope of the order, see Appendix I.

Antidumping Duty Order

In accordance with sections 735(b)(1)(A)(i) and 735(d) of the Act, the ITC notified the Department of its final determination that the industry in the United States producing off road tires is materially injured by reason of the LTFV imports of off road tires from India.⁴ Therefore, in accordance with section 735(c)(2) of the Act, we are publishing this antidumping duty order.

⁴ Id.

As a result of the ITC's final determination, in accordance with section 736(a)(1) of the Act, the Department will direct U.S. Customs and Border Protection (CBP) to assess, upon further instruction by the Department, antidumping duties equal to the amount by which the normal value of the merchandise exceeds the export price (or constructed export price) of the merchandise, for all relevant entries of off-road tires from India. Antidumping duties will be assessed on unliquidated entries of off road tires from India entered, or withdrawn from warehouse, for consumption on or after February 2, 2017, the date of publication of the Amended Final Determination.⁵

⁵ Amended Final Determination.

Continuation of Suspension of Liquidation

In accordance with section 735(c)(1)(B) of the Act, the Department will instruct CBP to continue to suspend liquidation on all relevant entries of off road tires from India. These instructions suspending liquidation will remain in effect until further notice.

We will also instruct CBP to require cash deposits equal to the estimated weighted-average dumping margins indicated below. Accordingly, effective on the date of publication of the ITC's final affirmative injury determinations, CBP will require, at the same time as importers would normally deposit estimated duties on this subject merchandise, a cash deposit equal to the estimated weighted-average antidumping duty margins listed below.⁶ The all-others rate applies to all producers or exporters not specifically listed. For the purposes of determining cash deposit rates, the estimated weighted-average dumping margins for imports of subject merchandise from India have been adjusted for export subsidies found in the amended final determination of the companion countervailing duty investigation of this merchandise (i.e., 4.72 percent).⁷

⁶ See Section 736(a)(3) of the Act.

⁷ See Certain New Pneumatic Off-the-Road Tires from India and Sri Lanka: Amended Final Affirmative Countervailing Duty Determination for India and Countervailing Duty Orders, dated concurrently with this notice.

Estimated Weighted-Average Dumping Margins

The estimated weighted-average antidumping duty margin percentages are as follows:

Exporter/ producer | Weighted- average dumping margin (percent) | Cash deposit rate adjusted for subsidy offset (percent)
ATC Tires Private Ltd | 3.67 | 0.00
All-Others | 3.67 | 0.00

Notification to Interested Parties

This notice constitutes the antidumping duty order with respect to off road tires from India pursuant to section 736(a) of the Act. Interested parties can find a list of antidumping duty orders currently in effect at http://enforcement.trade.gov/stats/iastats1.html.

These orders are published in accordance with section 736(a) of the Act and 19 CFR 351.211(b).

Dated: March 2, 2017.
Ronald K. Lorentzen,
Acting Assistant Secretary for Enforcement and Compliance.

Appendix I

Scope of the Order

The scope of the order is certain new pneumatic off-the-road tires (off-road tires). Off-road tires are tires with an off road tire size designation. The tires included in the scope may be either tube-type ⁸ or tubeless, radial, or non-radial, regardless of whether for original equipment manufacturers or the replacement market.

⁸ While tube-type tires are subject to the scope of these proceedings, tubes and flaps are not subject merchandise and therefore are not covered by the scope of these proceedings, regardless of the manner in which they are sold (e.g., sold with or separately from subject merchandise).

Subject tires may have the following prefix or suffix designation, which appears on the sidewall of the tire:

Prefix designations:

DH—Identifies a tire intended for agricultural and logging service which must be mounted on a DH drop center rim.

VA—Identifies a tire intended for agricultural and logging service which must be mounted on a VA multipiece rim.

IF—Identifies an agricultural tire to operate at 20 percent higher rated load than standard metric tires at the same inflation pressure.

VF—Identifies an agricultural tire to operate at 40 percent higher rated load than standard metric tires at the same inflation pressure.

Suffix designations:

ML—Mining and logging tires used in intermittent highway service.

DT—Tires primarily designed for sand and paver service.

NHS—Not for Highway Service.

TG—Tractor Grader, off-the-road tire for use on rims having bead seats with nominal +0.188″ diameter (not for highway service).

K—Compactor tire for use on 5° drop center or semi-drop center rims having bead seats with nominal minus 0.032 diameter.

IND—Drive wheel tractor tire used in industrial service.

SL—Service limited to agricultural usage.

FI—Implement tire for agricultural towed highway service.

CFO—Cyclic Field Operation.

SS—Differentiates tires for off-highway vehicles such as mini and skid-steer loaders from other tires which use similar size designations such as 7.00-15TR and 7.00-15NHS, but may use different rim bead seat configurations.

All tires marked with any of the prefixes or suffixes listed above in their sidewall markings are covered by the scope regardless of their intended use.

In addition, all tires that lack any of the prefixes or suffixes listed above in their sidewall markings are included in the scope, regardless of their intended use, as long as the tire is of a size that is among the numerical size designations listed in the following sections of the Tire and Rim Association Year Book, as updated annually, unless the tire falls within one of the specific exclusions set forth below. The sections of the Tire and Rim Association Year Book listing numerical size designations of covered certain off road tires include:

The table of mining and logging tires included in the section on Truck-Bus tires;

The entire section on Off-the-Road tires;

The entire section on Agricultural tires; and

The following tables in the section on Industrial/ATV/Special Trailer tires:

• Industrial, Mining, Counterbalanced Lift Truck (Smooth Floors Only);

• Industrial and Mining (Other than Smooth Floors);

• Construction Equipment;

• Off-the-Road and Counterbalanced Lift Truck (Smooth Floors Only);

• Aerial Lift and Mobile Crane; and

• Utility Vehicle and Lawn and Garden Tractor.

Certain off road tires, whether or not mounted on wheels or rims, are included in the scope. However, if a subject tire is imported mounted on a wheel or rim, only the tire is covered by the scope. Subject merchandise includes certain off road tires produced in the subject countries whether mounted on wheels or rims in a subject country or in a third country. Certain off road tires are covered whether or not they are accompanied by other parts, e.g., a wheel, rim, axle parts, bolts, nuts, etc. Certain off road tires that enter attached to a vehicle are not covered by the scope.

Specifically excluded from the scope are passenger vehicle and light truck tires, racing tires, mobile home tires, motorcycle tires, all-terrain vehicle tires, bicycle tires, on-road or on-highway trailer tires, and truck and bus tires. Such tires generally have in common that the symbol “DOT” must appear on the sidewall, certifying that the tire conforms to applicable motor vehicle safety standards. Such excluded tires may also have the following prefixes and suffixes included as part of the size designation on their sidewalls:

Prefix letter designations:

AT—Identifies a tire intended for service on All-Terrain Vehicles;

P—Identifies a tire intended primarily for service on passenger cars;

LT—Identifies a tire intended primarily for service on light trucks;

T—Identifies a tire intended for one-position “temporary use” as a spare only; and

ST—Identifies a special tire for trailers in highway service.

Suffix letter designations:

TR—Identifies a tire for service on trucks, buses, and other vehicles with rims having specified rim diameter of nominal plus 0.156″ or plus 0.250″;

MH—Identifies tires for Mobile Homes;

HC—Identifies a heavy duty tire designated for use on “HC” 15″ tapered rims used on trucks, buses, and other vehicles. This suffix is intended to differentiate among tires for light trucks, and other vehicles or other services, which use a similar designation.

Example: 8R17.5 LT, 8R17.5 HC;

LT—Identifies light truck tires for service on trucks, buses, trailers, and multipurpose passenger vehicles used in nominal highway service;

ST—Special tires for trailers in highway service; and

M/C—Identifies tires and rims for motorcycles.

The following types of tires are also excluded from the scope: Pneumatic tires that are not new, including recycled or retreaded tires and used tires; non-pneumatic tires, including solid rubber tires; aircraft tires; and turf, lawn and garden, and golf tires. Also excluded from the scope are mining and construction tires that have a rim diameter equal to or exceeding 39 inches. Such tires may be distinguished from other tires of similar size by the number of plies that the construction and mining tires contain (minimum of 16) and the weight of such tires (minimum 1500 pounds).

The subject merchandise is currently classifiable under Harmonized Tariff Schedule of the United States (HTSUS) subheadings: 4011.20.1025, 4011.20.1035, 4011.20.5030, 4011.20.5050, 4011.70.0010, 4011.62.0000, 4011.80.1010, 4011.80.1020, 4011.90.1050, 4011.70.0050, 4011.80.2010, 4011.80.8010, 4011.80.2020, 4011.80.8020, 8431.49.9038, 8431.49.9090, 8709.90.0020, and 8716.90.1020.⁹ Tires meeting the scope description may also enter under the following HTSUS subheadings: 4011.90.2050, 4011.90.8050, 8424.90.9080, 8431.20.0000, 8431.39.0010, 8431.49.1090, 8431.49.9030, 8432.90.0020, 8432.90.0040, 8432.90.0050, 8432.90.0060, 8432.90.0081, 8433.90.5010, 8503.00.9560, 8708.70.0500, 8708.70.2500, 8708.70.4530, 8716.90.5035, 8716.90.5056 and 8716.90.5059.¹⁰ While HTSUS subheadings are provided for convenience and customs purposes, the written description of the subject merchandise is dispositive.

⁹ Prior to January 1, 2017, subject merchandise was classifiable under the following HTSUS numbers which have been deleted or discontinued: 4011.61.0000, 4011.63.0000, 4011.69.0050, 4011.92.0000, 4011.93.4000, 4011.93.8000, 4011.94.4000, and 4011.94.8000.

¹⁰ Prior to January 1, 2017, tires meeting the scope description may also enter under the following HTSUS subheadings which have been deleted or discontinued: 4011.99.4550, 4011.99.8550, 8432.90.0005, 8432.90.0015, 8432.90.0030, 8432.90.0080, and 8716.90.5055.

[FR Doc. 2017-04432 Filed 3-3-17; 8:45 am]

BILLING CODE 3510-DS-P